DEPARTMENT OF HOMELAND SECURITY

Federal Emergency Management Agency

[Docket ID FEMA-2024-0002; Internal Agency Docket No. FEMA-B-2405]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona: Yavapai. | Unincorporated Areas of Yavapai County (23-09-1052P). | The Honorable James Gregory, Chair, Board of Supervisors, Yavapai County, 1015 Fair Street, 3rd Floor, Prescott, AZ 86305. | Yavapai County, Flood Control District, 1120 Commerce Drive, Prescott, AZ 86305. | https://msc.fema.gov/portal/advanceSearch. | Mar. 6, 2024 | 040093
California:
Monterey | City of Gonzales (23-09-1221P). | The Honorable Jose L. Rios, Mayor, City of Gonzales, P.O. Box 647, Gonzales, CA 93926. | City Hall, 147 4th Street, Gonzales, CA 93926. | https://msc.fema.gov/portal/advanceSearch. | Apr. 26, 2024 | 060198
Monterey | City of Salinas (23-09-1219P). | The Honorable Kimbley Craig, Mayor, City of Salinas, 200 Lincoln Avenue, Salinas, CA 93901. | Permit Center, 65 West Alisal Street, Salinas, CA 93901. | https://msc.fema.gov/portal/advanceSearch. | Apr. 25, 2024 | 060202
Monterey | Unincorporated Areas of Monterey County (23-09-1219P). | The Honorable Luis A. Alejo, Chair, Board of Supervisors, Monterey County, 168 West Alisal Street, 2nd Floor, Salinas, CA 93901. | Monterey County, Water Resources Agency, 1441 Schilling Place, North Building, Salinas, CA 93901. | https://msc.fema.gov/portal/advanceSearch. | Apr. 25, 2024 | 060195
Monterey | Unincorporated Areas of Monterey County (23-09-1220P). | The Honorable Luis A. Alejo, Chair, Board of Supervisors, Monterey County, 168 West Alisal Street, 2nd Floor, Salinas, CA 93901. | Monterey County, Water Resources Agency, 1441 Schilling Place, North Building, Salinas, CA 93901. | https://msc.fema.gov/portal/advanceSearch. | Apr. 25, 2024 | 060195
Monterey | Unincorporated Areas of Monterey County (23-09-1222P). | The Honorable Luis A. Alejo, Chair, Board of Supervisors, Monterey County, 168 West Alisal Street, 2nd Floor, Salinas, CA 93901. | Monterey County, Water Resources Agency, 1441 Schilling Place, North Building, Salinas, CA 93901. | https://msc.fema.gov/portal/advanceSearch. | Apr. 25, 2024 | 060195
Monterey | Unincorporated Areas of Monterey County (23-09-1223P). | The Honorable Luis A. Alejo, Chair, Board of Supervisors, Monterey County, 168 West Alisal Street, 2nd Floor, Salinas, CA 93901. | Monterey County, Water Resources Agency, 1441 Schilling Place, North Building, Salinas, CA 93901. | https://msc.fema.gov/portal/advanceSearch. | May 6, 2024 | 060195
Tulare | City of Woodlake (23-09-1050P). | The Honorable Rudy Mendoza, Mayor, City of Woodlake, 350 North Valencia Boulevard, Woodlake, CA 93286. | City Hall, 350 North Valencia Boulevard, Woodlake, CA 93286. | https://msc.fema.gov/portal/advanceSearch. | May 2, 2024 | 065071
Tulare | Unincorporated Areas of Tulare County (23-09-1050P). | The Honorable Dennis Townsend, Chair, Board of Supervisors, Tulare County, 2800 West Burrel Avenue, Visalia, CA 93291. | Tulare County, Resource Management Agency, Government Plaza, 5961 South Mooney Boulevard, Visalia, CA 93277. | https://msc.fema.gov/portal/advanceSearch. | May 2, 2024 | 065066
Ventura | City of Simi Valley (22-09-1262P). | The Honorable Fred D. Thomas, Mayor, City of Simi Valley, 2929 Tapo Canyon Road, Simi Valley, CA 93063. | Department of Public Works, 2929 Tapo Canyon Road, Simi Valley, CA 93063. | https://msc.fema.gov/portal/advanceSearch. | Apr. 12, 2024 | 060421
Florida:
Clay | Unincorporated Areas of Clay County (23-04-0807P). | Howard Wanamaker, Manager, Clay County, P.O. Box 1366, Green Cove Springs, FL 32043. | Clay County, Public Works Department, 5 Esplanade Avenue, Green Cove Springs, FL 32043. | https://msc.fema.gov/portal/advanceSearch. | Mar. 21, 2024 | 120064
Duval | City of Atlantic Beach (22-04-5573P). | The Honorable Curtis Ford, Mayor—Seat 1, City of Atlantic Beach, 800 Seminole Road, Atlantic Beach, FL 32233. | City Hall, 800 Seminole Road, Atlantic Beach, FL 32233. | https://msc.fema.gov/portal/advanceSearch. | Apr. 5, 2024 | 120075
Duval | City of Jacksonville (22-04-5573P). | The Honorable Donna Deegan, Mayor, City of Jacksonville, 117 West Duval Street, Suite 400, Jacksonville, FL 32202. | Edward Ball Building Development Services, Room 2100, 214 North Hogan Street, Jacksonville, FL 32250. | https://msc.fema.gov/portal/advanceSearch. | Apr. 5, 2024 | 120077
Duval | City of Jacksonville (23-04-1662P). | The Honorable Donna Deegan, Mayor, City of Jacksonville, 117 West Duval Street, Suite 400, Jacksonville, FL 32202. | Edward Ball Building Development Services, Room 2100, 214 North Hogan Street, Jacksonville, FL 32250. | https://msc.fema.gov/portal/advanceSearch. | Apr. 12, 2024 | 120077
Duval | City of Jacksonville (23-04-3193P). | The Honorable Donna Deegan, Mayor, City of Jacksonville, 117 West Duval Street, Suite 400, Jacksonville, FL 32202. | Edward Ball Building Development Services, Room 2100, 214 North Hogan Street, Jacksonville, FL 32250. | https://msc.fema.gov/portal/advanceSearch. | Apr. 2, 2024 | 120077
Nassau | Unincorporated Areas of Nassau County (23-04-1810P). | Klynt A. Farmer, Chair, Nassau County, Board of Commissioners, 96135 Nassau Place, Suite 1, Yulee, FL 32097. | Nassau County Building Department, 96161 Nassau Place, Yulee, FL 32097. | https://msc.fema.gov/portal/advanceSearch. | Mar. 31, 2024 | 120170
St. Johns | Unincorporated Areas of St. Johns County (22-04-4973P). | Christian Whitehurst, Chair, St. Johns County, Board of Commissioners, 500 San Sebastian View, St. Augustine, FL 32084. | St. Johns County Permit Center, 4040 Lewis Speedway, St. Augustine, FL 32084. | https://msc.fema.gov/portal/advanceSearch. | Apr. 29, 2024 | 125147
Idaho:
Ada | Unincorporated Areas of Ada County (23-10-0153P). | Rod Beck, Chair, Ada County Board of Commissioners, Ada County Courthouse, 200 West Front Street, 3rd Floor, Boise, ID 83702. | Ada County Courthouse, 200 West Front Street, Boise, ID 83702. | https://msc.fema.gov/portal/advanceSearch. | Apr. 11, 2024 | 160001
Bannock | City of Pocatello (22-10-0761P). | The Honorable Brian Blad, Mayor, City of Pocatello, P.O. Box 4169, Pocatello, ID 83201. | City Hall, 911 North 7th Avenue, Pocatello, ID 83201. | https://msc.fema.gov/portal/advanceSearch. | Mar. 21, 2024 | 160012
Bannock | Unincorporated Areas of Bannock County (22-10-0761P). | Ernie Moser, Chair, Bannock County, Board of Commissioners, 624 East Center, Room 101, Pocatello, ID 83201. | Bannock County, Planning and Development, 5500 South 5th Avenue, Pocatello, ID 83201. | https://msc.fema.gov/portal/advanceSearch. | Mar. 21, 2024 | 160009
Canyon | City of Notus (23-10-0461P). | The Honorable David Porterfield, Mayor, City of Notus, P.O. Box 257, Notus, ID 83656. | City Hall, 375 Notus Road, Notus, ID 83656. | https://msc.fema.gov/portal/advanceSearch. | Mar. 20, 2024 | 160147
Canyon | Unincorporated Areas of Canyon County (23-10-0461P). | Brad Holton, Chair, Canyon County, Board of Commissioners, 1115 Albany Street, Room 101, Caldwell, ID 83605. | Canyon County Administration Building, 111 North 11th Avenue, Room 101, Caldwell, ID 83605. | https://msc.fema.gov/portal/advanceSearch. | Mar. 20, 2024 | 160208
Illinois:
Kane | City of Elgin (22-05-2657P). | The Honorable David Kaptain, Mayor, City of Elgin, 150 Dexter Court, Elgin, IL 60120. | Public Works Department, Engineering Department, 150 Dexter Court, Elgin, IL 60120. | https://msc.fema.gov/portal/advanceSearch. | Apr. 4, 2024 | 170087
Kane | Village of Campton Hills (22-05-2657P). | Barbara Wojnicki, Village President, Village of Campton Hills, 40W270 LaFox Road, Suite B, Campton Hills, IL 60175. | Village Hall, 40W270 LaFox Road, Suite B, Campton Hills, IL 60175. | https://msc.fema.gov/portal/advanceSearch. | Apr. 4, 2024 | 171396
Will | Unincorporated Areas of Will County (22-05-3276P). | Jennifer Bertino-Tarrant, Will County Executive, Will County Office Building, 302 North Chicago Street, Joliet, IL 60432. | Will County Land Use Department, 58 East Clinton Street, Suite 100, Joliet, IL 60432. | https://msc.fema.gov/portal/advanceSearch. | Apr. 17, 2024 | 170695
Will | Unincorporated Areas of Will County (24-05-0310P). | Jennifer Bertino-Tarrant, Will County Executive, Will County Office Building, 302 North Chicago Street, Joliet, IL 60432. | Will County Land Use Department, 58 East Clinton Street, Suite 100, Joliet, IL 60432. | https://msc.fema.gov/portal/advanceSearch. | Apr. 15, 2024 | 170695
Will | Village of Plainfield (24-05-0310P). | John Argoudelis, Village President, Village of Plainfield, 24401 West Lockport Street, Plainfield, IL 60544. | Village Hall, 24401 West Lockport Street, Plainfield, IL 60544. | https://msc.fema.gov/portal/advanceSearch. | Apr. 15, 2024 | 170771
Indiana: Marion. | City of Indianapolis (22-05-2392P). | The Honorable Joe Hogsett, Mayor, City of Indianapolis, City-County Building, 200 East Washington Street, Suite 2501, Indianapolis, IN 46204. | City Hall, 200 East Washington Street, Suite 1842, Indianapolis, IN 46204. | https://msc.fema.gov/portal/advanceSearch. | Mar. 20, 2024 | 180159
Michigan: Saginaw | Township of Kochville (23-05-1059P). | Alan Maleskey, Town Supervisor, Township of Kochville, Kochville Township Offices, 5851 Mackinaw Road, Saginaw, MI 48604. | Township Hall, 5851 Mackinaw Road, Saginaw, MI 48604. | https://msc.fema.gov/portal/advanceSearch. | Mar. 20, 2024 | 260501
Minnesota:
Dakota | City of Hampton (23-05-1190P). | The Honorable John Knetter, Mayor, City of Hampton, P.O. Box 128, Hampton, MN 55031. | City Hall, 5265 238 Street East, Hampton, MN 55031. | https://msc.fema.gov/portal/advanceSearch. | Apr. 26, 2024 | 270774
Dakota | Unincorporated Areas of Dakota County (23-05-1190P). | Matt Smith, County Manager, Dakota County, 1590 Highway 55, Hastings, MN 55033. | Dakota County Administration Center, 1590 Highway 55, Hastings, MN 55033. | https://msc.fema.gov/portal/advanceSearch. | Apr. 26, 2024 | 270101
Nevada: Carson City | City of Carson City (22-09-0582P). | The Honorable Lori Bagwell, Mayor, City of Carson City, City Hall, 201 North Carson Street, Suite 2, Carson City, NV 89701. | Building Division Permit Center, 108 East Proctor Street, Carson City, NV 89701. | https://msc.fema.gov/portal/advanceSearch. | Apr. 4, 2024 | 320001
New York: Rockland | Town of Clarkstown (23-02-0495P). | George Hoehmann, Supervisor, Town of Clarkstown, 10 Maple Avenue, New City, NY 10956. | Town Hall, 10 Maple Avenue, New City, NY 10956. | https://msc.fema.gov/portal/advanceSearch. | May 22, 2024 | 360679
Ohio:
Licking | Village of Hebron (23-05-2363P). | The Honorable James Layton, Mayor, Village of Hebron, 934 West Main Street, Hebron, OH 43025. | Municipal Complex, 934 West Main Street, Hebron, OH 43025. | https://msc.fema.gov/portal/advanceSearch. | Apr. 12, 2024 | 390333
Licking | Unincorporated Area of Licking County (23-05-2363P). | Timothy E. Bubb, President, Board of Licking County Commissioners, 20 South 2nd Street, Newark, OH 43055. | Licking County Planning and Development Department, 20 South 2nd Street, Newark, OH 43055. | https://msc.fema.gov/portal/advanceSearch. | Apr. 12, 2024 | 390328
Logan | City of Bellefontaine (23-05-2635P). | The Honorable Ben Stahler, Mayor, City of Bellefontaine, 135 North Detroit Street, Bellefontaine, OH 43311. | City Hall, 135 North Detroit Street, Bellefontaine, OH 43311. | https://msc.fema.gov/portal/advanceSearch. | Apr. 17, 2024 | 390340
Logan | Unincorporated Areas of Logan County (23-05-2635P). | The Honorable Joe Antram, President, Logan County Board of Commissioners, 117 East Columbus Avenue, Bellefontaine, OH 43311. | Logan County Commissioner's Office, 117 East Columbus Avenue, Bellefontaine, OH 43311. | https://msc.fema.gov/portal/advanceSearch. | Apr. 17, 2024 | 390772
Wisconsin:
Kenosha | City of Kenosha (23-05-2935P). | The Honorable John Antaramian, Mayor, City of Kenosha, 625 52nd Street, Room 300, Kenosha, WI 53140. | City Hall, 625 52nd Street, Kenosha, WI 53140. | https://msc.fema.gov/portal/advanceSearch. | Apr. 24, 2024 | 550209
Kenosha | Village of Bristol (23-05-2935P). | Mike Farrell, President, Village of Bristol, Bristol Municipal Building, 19801 83rd Street, Bristol, WI 53104. | Village Hall, 19801 83rd Street, Bristol, WI 53104. | https://msc.fema.gov/portal/advanceSearch. | Apr. 24, 2024 | 550595
Kenosha | Village of Pleasant Prairie (23-05-0948P). | John P. Steinbrink, President, Village of Pleasant Prairie, 9915 39th Avenue, Pleasant Prairie, WI 53158. | Village Hall, 9915 39th Avenue, Pleasant Prairie, WI 53158. | https://msc.fema.gov/portal/advanceSearch. | Mar. 26, 2024 | 550613
Outagamie | Unincorporated Areas of Outagamie County (21-05-4195P). | Thomas M. Nelson, County Executive, Outagamie County, 320 South Walnut Street, Appleton, WI 54911. | Outagamie County Building, 410 South Walnut Street, Appleton, WI 54911. | https://msc.fema.gov/portal/advanceSearch. | Apr. 19, 2024 | 550302
Sheboygan | City of Plymouth (22-05-1328P). | The Honorable Don Pohlman, Mayor, City of Plymouth, City Hall, 128 Smith Street, Plymouth, WI 53073. | City Hall, 128 Smith Street, Plymouth, WI 53073. | https://msc.fema.gov/portal/advanceSearch. | Apr. 8, 2024 | 550428
Sheboygan | Unincorporated Areas of Sheboygan County (22-05-1328P). | Vernon C. Koch, Chair, Sheboygan County, Administration Building, 508 New York Avenue, Room 311, Sheboygan, WI 53081. | Sheboygan County Administration Building, 508 New York Avenue, Sheboygan, WI 53081. | https://msc.fema.gov/portal/advance. | Apr. 8, 2024 | 550424

[FR Doc. 2024-01103 Filed 1-19-24; 8:45 am]

BILLING CODE 9110-12-P